DEPARTMENT OF EDUCATION

[Docket No.: ED-2023-SCC-0195]

Agency Information Collection Activities; Submission to the Office of Management and Budget for Review and Approval; Comment Request; Connecting Adults to Success: Career Navigator Training Study (CATS Study)

AGENCY: Institute of Education Sciences (IES), Department of Education (ED).

ACTION: Notice

SUMMARY: In accordance with the Paperwork Reduction Act (PRA) of 1995, the Department is proposing a revision of a currently approved information collection request (ICR).

DATES: Interested persons are invited to submit comments on or before March 22, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Melanie Ali, (202) 245-8345.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Connecting Adults to Success: Career Navigator Training Study (CATS Study).

OMB Control Number: 1850-0973.

Type of Review: Revision of a currently approved ICR.

Respondents/Affected Public: Individuals or households Total Estimated Number of Annual Responses: 30,823.

Total Estimated Number of Annual Burden Hours: 2,340.

Abstract: The Institute of Education Sciences within the U.S. Department of Education requests clearance for a revision to the Connecting Adults to Success: Evaluation of Career Navigator Training (1850-0973, approved on July 18, 2022). This demonstration study examines the impact of training for career navigators—local adult education provider staff who provide services to address the challenges that learners face navigating the transition to the workforce and to further education and training. The study compares the education and employment outcomes of learners enrolled in adult education sites whose career navigators are assigned by lottery to receive the study's training (the treatment group) with the outcomes of learners enrolled in the business-as-usual sites who are assigned by lottery to receive the study's training after the study period (the comparison group). Approximately 64 adult education sites nationally are participating in the study. Impacts on learners' education and employment outcomes will be examined after 18 and 30 months. The revision is for the purpose of shifting one component of the approved data collection plan—frequent adult education career navigator-completed logs—to add a single follow-up survey to ensure the study can still examine whether the training leads to changes in these practices. The survey is now needed because of concerns about low response rates and data quality from early rounds of those logs.

Dated: February 15, 2024.
Juliana Pearson,
PRA Coordinator, Strategic Collections and Clearance, Governance and Strategy Division, Office of Chief Data Officer, Office of Planning, Evaluation and Policy Development.

[FR Doc. 2024-03499 Filed 2-20-24; 8:45 am]

BILLING CODE 4000-01-P